NATIONAL SCIENCE FOUNDATION

Special Emphasis Panel in Integrative Activities; Notice of Meeting

In accordance with the Federal Advisory Committee Act (Pub. L. 92-463, as amended), the National Science Foundation announces the following meeting:

Name: Special Emphasis Panel in Integrative Activities (1373).

Date and Time: October 4-5, 2000 8:30 a.m.-5 p.m.

Place: Training Room, Cox Hall, Emory University, Atlanta, GA.

Type of Meeting: Closed.

Contact Person: Dr. Christopher Platt, Program Director for Neuroscience, Division of Integrative Biology & Neuroscience, Rm. 685, National Science Foundation, 4201 Wilson Blvd., Arlington, VA 22230. Telephone: (703) 292-1420.

Purpose of Meeting: To provide advice and recommendations concerning further NSF support of the Science & Technology Center for Behavioral Neuroscience.

Agenda: To review and evaluate the progress to date on all aspects of the Center for Behavioral Neuroscience.

Reason for Closing: The project being reviewed includes information of a proprietary or confidential nature, including technical information; financial data and personal information concerning individuals associated with the proposals. These matters are exempt under 5 U.S.C. 552b(c), (4) and (6) of the Government in the Sunshine Act.

Dated: September 7, 2000.
Karen J. York,
Committee Management Officer.

[FR Doc. 00-23488 Filed 9-12-00; 8:45 am]

BILLING CODE 7555-01-M